Proclamation 10580 of May 12, 2023

Mother's Day, 2023

By the President of the United States of America

A Proclamation

On Mother's Day, we celebrate the moms and the women filling the role of a mother in our lives, who bless us with a total sense of what it means to be family. They believe in us so we can believe in ourselves. They sacrifice to give us opportunities they never had. They are there for us at our highest points and our lowest moments, lifting us up when we need it most.

The lessons I learned from my mother, Catherine Eugenia “Jean” Finnegan Biden, continue to guide me today. She led with honor. She believed everyone deserved to be treated equally. She reminded my siblings and me that failure was inevitable, but giving up was never an option. She would say that courage is the greatest virtue, because without courage, you cannot love with abandon.

My wife, First Lady Jill Biden, has loved our children and grandchildren with abandon as well. She was the glue that helped put our family back together after my boys and I experienced profound loss. Every day, her joy, wisdom, and strength bring light to so many, including the students she teaches full time.

Across the country, mothers are nurturing children, providing for families, and driving innovation in every field. They serve at the highest levels of government, lead our Nation's military, and power our economy—running some of the biggest companies in the world and operating beloved small businesses on Main Streets across America. At the same time, many mothers work night shifts and jobs that often do not pay them enough to make ends meet and support their families. As moms continue knocking down the barriers that stand in the way of all women and girls reaching their full potential, my Administration is working to give them support and opportunity. Our American Rescue Plan helped keep the doors open for 220,000 child care providers—90 percent of which are owned and staffed by women—so families could go to work while their children were cared for. We expanded the Child Tax Credit and cut child poverty in half during our first year in office. The historic infrastructure, manufacturing, and clean energy laws I signed as part of our Investing in America agenda are creating good-paying jobs for women in sectors where they have been previously underrepresented. And to ensure that new and expecting mothers can thrive in the workplace, I signed into law new protections for pregnant workers and nursing parents in the workplace: the Pregnant Workers Fairness Act and the Providing Urgent Maternal Protections for Nursing Mothers Act.

Meanwhile, Vice President Kamala Harris is leading the charge to make pregnancy and childbirth safer for all women and to make sure pregnant women and moms in all communities are treated fairly. We released a Blueprint for Addressing the Maternal Health Crisis to lower the rates of maternal mortality and morbidity; reduce disparities in maternal health; and improve the experiences of women before, during, and after birth across the country. Our American Rescue Plan gave States the option to extend Medicaid postpartum coverage for a full year—up from just 60 days—and we have already approved requests from over 30 States and Washington, D.C., to expand this coverage. And my Administration continues fighting for a national, comprehensive paid family and medical leave program.

Today, at family gatherings across America, let us give thanks for all the mothers and mother-figures, who we love so much. Let us be sure to make the most of our precious time together. Let us also keep in our prayers those who observe this day with a hole in their heart, missing a mom's irreplaceable presence and the comfort it brings, as well as the mothers who know the pain of losing a child. Finally, let us continue working to extend our country's promise of dignity and opportunity to America's mothers—the least we can do for the people in our lives who have given us the most.

The Congress, by joint resolution approved May 8, 1914 (38 Stat. 770), has designated the second Sunday in May each year as “Mother's Day” and requested the President to call for its appropriate observance.

NOW, THEREFORE, I, JOSEPH R. BIDEN JR., President of the United States of America, do hereby proclaim May 14, 2023, as Mother's Day. I urge all Americans to express their love, respect, and gratitude to mothers everywhere. I call upon all citizens to observe this day with appropriate programs, ceremonies, and activities.

IN WITNESS WHEREOF, I have hereunto set my hand this twelfth day of May, in the year of our Lord two thousand twenty-three, and of the Independence of the United States of America the two hundred and forty-seventh.

[FR Doc. 2023-10665

Filed 5-16-23; 8:45 am]

Billing code 3395-F3-P